DEPARTMENT OF ENERGY

Southeastern Power Administration

Intent to Formulate Power Marketing Policy Jim Woodruff System Project

AGENCY: Southeastern Power Administration, DOE.

ACTION: Notice of intention to begin a public process.

SUMMARY: Pursuant to its Procedure for Public Participation in the Formulation of Marketing Policy published in the Federal Register of July 6, 1978, Southeastern Power Administration (Southeastern) intends to create a marketing policy for future disposition of power from the Jim Woodruff System. Southeastern solicits written comments and proposals in formulating the proposed marketing policy.

DATES: Comments and proposals must be submitted on or before October 4, 2022.

ADDRESSES: Written comments or proposals should be submitted to Virgil G. Hobbs III, Administrator and Chief Executive, Southeastern Power Administration, 1166 Athens Tech Road, Elberton, Georgia, 30635-6711, (706) 213-3800, comments@sepa.doe.gov.

FOR FURTHER INFORMATION CONTACT: Leon Jourolmon IV, General Counsel, (706) 213-3800, comments@sepa.doe.gov.

SUPPLEMENTARY INFORMATION: The Jim Woodruff System is a single-project system located on the border of Florida and Georgia and operated by the Department of the Army. Current customers of the project include Central Florida Electric Cooperative, Suwannee Valley Electric Cooperative, Talquin Electric Cooperative, Tri-County Electric Cooperative, City of Chattahoochee, City of Quincy, and Duke Energy Florida. Current contracts for the aforementioned customers are maintained in the Southeastern headquarters office.

Under Section 5 of the Flood Control Act of 1944 (16 U.S.C. 825s), Southeastern is responsible for the transmission and disposition of electric power and energy from reservoir projects operated by the Department of the Army. Southeastern intends to negotiate new transmission contracts with area utilities. This will be the first marketing policy to be established for the Jim Woodruff System.

Signing Authority

This document of the Department of Energy was signed on August 1, 2022, by Virgil G. Hobbs III, Administrator and Chief Executive for Southeastern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 2, 2022.
Treena V. Garrett,
Federal Register Liaison Officer, U.S. Department of Energy.

[FR Doc. 2022-16797 Filed 8-4-22; 8:45 am]

BILLING CODE 6450-01-P